NUCLEAR REGULATORY COMMISSION

Request To Amend a License for the Export of Radioactive Waste

Pursuant to 10 CFR 110.70 (b) “Public Notice of Receipt of an Application,” please take notice that the Nuclear Regulatory Commission (NRC) has received the following request to amend an export license. Copies of the request are available electronically through ADAMS and can be accessed through the Public Electronic Reading Room (PERR) link http://www.nrc.gov/reading-rm.html at the NRC Homepage.

A request for a hearing or petition for leave to intervene may be filed within thirty days after publication of this notice in the Federal Register. Any request for hearing or petition for leave to intervene shall be served by the requestor or petitioner upon the applicant, the Office of the General Counsel, U.S. Nuclear Regulatory Commission, Washington, DC 20555; the Secretary, U.S. Nuclear Regulatory Commission, Washington, DC 20555; and the Executive Secretary, U.S. Department of State, Washington, DC 20520.

A request for a hearing or petition for leave to intervene may be filed with the NRC electronically in accordance with NRC's E-Filing rule promulgated in August 2007, 72 FR 49139 (Aug. 28, 2007). Information about filing electronically is available on timely electronic filing, at least five days prior to the filing deadline, the petitioner/requestor should contact the Office of the Secretary by e-mail at HEARINGDOCKET@NRC.GOV, or by calling (301) 415-1677, to request a digital ID certificate and allow for the creation of an electronic docket.

In its review of the application for a license to export radioactive waste as defined in 10 CFR Part 110 and noticed herein, the Commission does not evaluate the health, safety or environmental effects in the recipient nation of the material to be exported. The information concerning the application follows.

NRC Application To Amend License for the Export of Radioactive Waste

Description of Material
Name of applicant, Date of application, Date received, Application No. Docket No. | Material type | Total quantity (Qty) | End use | Country of destination
Diversified Scientific Services, Inc. (DSSI) January 20, 2009 and October 22, 2008 January 22, 2009 and October 23, 2008 XW002/05 11004983 | Class A Radioactive Mixed Waste—(in solid form) | A maximum total quantity not to exceed 30 curies (and not more than 10 curies per year) of Class A radioactive mixed waste (primarily mixed fission product radionuclides) contained in baghouse salts and ash, which result from processing liquid waste received under NRC import license IW004 | Amendment to (1) add three new ultimate consignees for return of processed waste; and (2) extend the expiration date from 12/31/10 to 12/31/13 | Canada.

For the Nuclear Regulatory Commission.
Dated this 11th day of February 2009 at Rockville, Maryland.
Scott M. Moore,
Deputy Director, Office of International Programs.

[FR Doc. E9-3389 Filed 2-13-09; 8:45 am]

BILLING CODE 7590-01-P